SMALL BUSINESS ADMINISTRATION

Disaster Declaration #11010 and #11011; Wisconsin Disaster Number WI-00010

AGENCY: U.S. Small Business Administration.

ACTION: Amendment 2.

SUMMARY: This is an amendment of the Presidential declaration of a major disaster for the State of Wisconsin (FEMA-1719-DR), dated 08/26/2007.

Incident: Severe Storms and Flooding.

Incident Period: 08/18/2007 through 08/31/2007.

DATES: Effective Date: 09/06/2007.

Physical Loan Application Deadline Date: 10/25/2007.

EIDL Loan Application Deadline Date: 05/26/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Wisconsin, dated 08/26/2007 is hereby amended to include the following areas as adversely affected by the disaster:

Primary Counties:

Columbia, Dane, Grant, Green, Iowa, Jefferson, Kenosha, Racine, Rock.

Contiguous Counties:

Wisconsin: Dodge, Green Lake, Lafayette, Marquette, Milwaukee, Walworth, Waukesha.

Illinois: Boone, Jo Daviess, Lake, McHenry, Stephenson, Winnebago.

Iowa: Dubuque.

All other information in the original declaration remains unchanged.

(Catalog of Federal Domestic Assistance Numbers 59002 and 59008)

James E. Rivera,
Acting Associate Administrator for Disaster Assistance.

[FR Doc. E7-18133 Filed 9-13-07; 8:45 am]

BILLING CODE 8025-01-P